SMALL BUSINESS ADMINISTRATION

[Disaster Declaration #20900 and #20901; WASHINGTON Disaster Number WA-20013]

Presidential Declaration of a Major Disaster for Public Assistance Only for the Confederated Tribes of the Colville Reservation

AGENCY: U.S. Small Business Administration.

ACTION: Notice.

SUMMARY: This is a Notice of the Presidential declaration of a major disaster for Public Assistance Only for the Confederated Tribes of the Colville Reservation (FEMA-4849-DR), dated November 26, 2024.

Incident: Wildfires.

DATES: Issued on November 26, 2024.

Incident Period: July 17, 2024 through August 21, 2024.

Physical Loan Application Deadline Date: January 27, 2025.

Economic Injury (EIDL) Loan Application Deadline Date: August 26, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the President's major disaster declaration on November 26, 2024, Private Non-Profit organizations that provide essential services of a governmental nature may file disaster loan applications online using the MySBA Loan Portal https://lending.sba.gov or other locally announced locations. Please contact the SBA disaster assistance customer service center by email at disastercustomerservice@sba.gov or by phone at 1-800-659-2955 for further assistance.

The following area has been determined to be adversely affected by the disaster:

The Confederated Tribes of the Colville Reservation

The Interest Rates are:

| Percent
For Physical Damage:
Non-Profit Organizations with Credit Available Elsewhere | 3.250
Non-Profit Organizations without Credit Available Elsewhere | 3.250
For Economic Injury:
Non-Profit Organizations without Credit Available Elsewhere | 3.250

The number assigned to this disaster for physical damage is 209005 and for economic injury is 209010.

(Catalog of Federal Domestic Assistance Number 59008)

Alejandro Contreras,
Acting Deputy Associate Administrator, Office of Disaster Recovery & Resilience.

[FR Doc. 2024-28567 Filed 12-5-24; 8:45 am]

BILLING CODE 8026-09-P